DEPARTMENT OF COMMERCE

International Trade Administration

[A-570-806]

Silicon Metal From the People's Republic of China: Final Results of Antidumping Duty Administrative Review; 2017-2018

AGENCY: Enforcement and Compliance, International Trade Administration, Department of Commerce.

SUMMARY: The Department of Commerce (Commerce) determines that Yunnan Fuyang Trade Co., Ltd. (Fuyang) did not make a bona fide sale during the period of review (POR) June 1, 2017 through May 31, 2018. Therefore, we are rescinding this administrative review.

DATES: Applicable December 18, 2019.

FOR FURTHER INFORMATION CONTACT: Eli Lovely, AD/CVD Operations, Office IV, Enforcement and Compliance, International Trade Administration, U.S. Department of Commerce, 1401 Constitution Avenue NW, Washington, DC 20230; telephone: (202) 482-1593.

SUPPLEMENTARY INFORMATION:

Background

On August 14, 2019, Commerce published the Preliminary Results of this review in the Federal Register ¹ and invited parties to comment on the Preliminary Results. On September 13, 2019, we received case briefs from Yunnan Fuyang Trade Co., Ltd. (Fuyang) and the petitioner (i.e., Globe Specialty Metals, Inc.). On September 23, 2019, we received rebuttal briefs from Fuyang and the petitioner.

¹ See Silicon Metal From the People's Republic of China: Preliminary Rescission of the Antidumping Duty Administrative Review; 2017-2018, 84 FR 40395 (August 14, 2019) (Preliminary Results), and accompanying Preliminary Decision Memorandum.

Scope of the Order

The product covered by the order is silicon metal containing at least 96.00 but less than 99.99 percent of silicon by weight, and silicon metal with a higher aluminum content containing between 89 and 96 percent silicon by weight. For the full text of the scope of the order, see the Issues and Decision Memorandum.²

² See Memorandum, “Issues and Decision Memorandum for the Final Results of the Administrative Review of the Antidumping Duty Order on Silicon Metal from the People's Republic of China; 2017-2018,” dated concurrently with, and hereby adopted by, this notice (Issues and Decision Memorandum).

Analysis of the Comments Received

All issues raised in the case and rebuttal briefs submitted in this review are addressed in the Issues and Decision Memorandum. A list of the issues raised is attached as an appendix to this notice. The Issues and Decision Memorandum is a public document and is on file electronically via Enforcement and Compliance's Antidumping and Countervailing Duty Centralized Electronic Service System (ACCESS). ACCESS is available to registered users at http://access.trade.gov and to all parties in the Central Records Unit, Room B8024 of the main Commerce building. In addition, a complete version of the Issues and Decision Memorandum can be accessed directly at http://enforcement.trade.gov/frn/index.html. The signed and electronic versions of the Issues and Decision Memorandum are identical in content.

Bona Fides Analysis

We preliminarily found that Fuyang's sale of subject merchandise to the United States during the POR is not a bona fide sale.³ After analyzing parties' comments, we continue to find that Fuyang's sale is not a bona fide sale. We reached this conclusion based on multiple issues, including: (a) The atypical nature of both the price and quantity of the sale; (b) factors calling into question whether the sale was made at arm's-length; and (c) other relevant factors.

³ See Memorandum, “2017-2018 Antidumping Duty Administrative Review of Silicon Metal from the People's Republic of China: Preliminary Bona Fide Sales Analysis for Yunnan Fuyang Trade Co., Ltd.,” dated August 6, 2019.

Because we have determined that Fuyang had no bona fide sales during the POR, we are rescinding this administrative review.

Assessment

Because Commerce is rescinding this administrative review, we have not calculated a company-specific dumping margin for Fuyang. Fuyang remains part of the China-wide entity and entries of its subject merchandise during the POR will be assessed antidumping duties at the China-wide entity rate. The China-wide entity rate is 139.49 percent.

Cash Deposit Requirements

As noted above, Commerce is rescinding this administrative review. Thus, we have not calculated a company-specific dumping margin for Fuyang. Therefore, entries of Fuyang's subject merchandise continue to be subject to the China-wide entity cash deposit rate of 139.49 percent. This cash deposit requirement shall remain in effect until further notice.

Administrative Protective Order

This notice also serves as a reminder to parties subject to Administrative Protective Order (APO) of their responsibility concerning the return or destruction of proprietary information disclosed under APO in accordance with 19 CFR 351.305, which continues to govern business proprietary information in these segments of the proceeding. Timely written notification of the return or destruction of APO materials, or conversion to judicial protective order, is hereby requested. Failure to comply with the regulations and terms of an APO is a sanctionable violation.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these results in accordance with sections 751(a)(1) and 777(i)(1) of the Tariff Act of 1930, as amended, and 19 CFR 351.213(h) and 351.221(b)(5).

Dated: December 11, 2019.
Jeffrey I. Kessler,
Assistant Secretary for Enforcement and Compliance.

Appendix

List of Topics Discussed in the Issues and Decision Memorandum

I. Summary

II. Background

III. Scope of the Order

IV. Discussion of the Issues

Comment: Whether Fuyang's Sole U.S. Sale During the Period of Review is Bona Fide

i. Whether Sale Price Weighs in Favor of Finding Fuyang's Sale Was Not Bona Fide

ii. Whether Sale Quantity Weighs in Favor of Finding Fuyang's Sale Was Not Bona Fide

iii. Whether Sale Timing Weighs in Favor of Finding Fuyang's Sale Was Not Bona Fide

iv. Whether the Goods were Resold at a Profit

v. Whether the Sale was Made on an Arm's-Length Basis

vi. Other Relevant Factors

V. Recommendation

[FR Doc. 2019-27264 Filed 12-17-19; 8:45 am]

BILLING CODE 3510-DS-P